DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 5, 2008.

Interested persons are invited to submit written comments regarding the subject matter of the investigations to the Director, Division of Trade Adjustment Assistance, at the address shown below, not later than December 5, 2008.

The petitions filed in this case are available for inspection at the Office of the Director, Division of Trade Adjustment Assistance, Employment and Training Administration, U.S. Department of Labor, Room C-5311, 200 Constitution Avenue, NW., Washington, DC 20210.

Signed at Washington, DC, this 12th day of November 2008.
Erin Fitzgerald,
Director, Division of Trade Adjustment Assistance.

Appendix

TAA Petitions Instituted Between 10/27/08 and 10/31/08
TA-W | Subject firm (petitioners) | Location | Date of institution | Date of petition
64279 | Tekni-Plex, Inc. dba Dolco Packaging (Comp) | Troy, OH | 10/27/08 | 10/24/08
64280 | Phoenix Leather, Inc. (State) | Brockton, MA | 10/27/08 | 10/01/08
64281 | International Paper (State) | Warren, MI | 10/27/08 | 10/27/08
64282 | Allied Systems (Union) | Moraine, OH | 10/27/08 | 10/15/08
64283 | STEC, Inc. (Comp) | Santa Ana, CA | 10/27/08 | 10/22/08
64284 | Morse Automotive (Wkrs) | Chicago, IL | 10/27/08 | 10/22/08
64285 | ITT Corporation—Interconnect Solutions and Flow Control (Comp) | Santa Ana, CA | 10/27/08 | 10/24/08
64286 | MTD Acquisition, Inc. (Comp) | Chisholm, MN | 10/27/08 | 10/24/08
64287 | Logistics Services (UAW) | Fenton, MO | 10/27/08 | 10/23/08
64288 | Wabash Magnetics/Rurz Rasch (Wkrs) | Wabash, IN | 10/27/08 | 10/24/08
64289 | Hendricks Furniture Group LLC (Comp) | Conover, NC | 10/28/08 | 10/13/08
64290 | Hoya Lens of America, Inc. (State) | Bethel, CT | 10/28/08 | 10/27/08
64291 | Rosti (State) | Shreveport, LA | 10/28/08 | 10/27/08
64292 | PHB, Inc. (USW) | Fairview, PA | 10/28/08 | 10/27/08
64293 | Statton Furniture Manufacturing Company, Inc. (Comp) | Hagerstown, MD | 10/28/08 | 10/27/08
64294 | Global Tech Building Services Corporation (Wkrs) | Eugene, OR | 10/28/08 | 10/27/08
64295 | Coupled Products, LLC (UAW) | Upper Sandusky, OH | 10/28/08 | 10/23/08
64296 | Johnson Controls Interiors Manufacturing (Comp) | Croswell, MI | 10/28/08 | 10/27/08
64297 | Hewlett-Packard, Graphic Solutions Business (Comp) | Minnetonka, MN | 10/28/08 | 10/22/08
64298 | Steel Technologies (Wkrs) | Flint, MI | 10/28/08 | 10/27/08
64299 | Hofmann Industries (USW) | Sinking Spring, PA | 10/29/08 | 10/27/08
64300 | US Marine Bayliner (State) | Pipestone, MN | 10/29/08 | 10/28/08
64301 | Window Fashions, Inc. (Comp) | National Heights, PA | 10/29/08 | 10/22/08
64302 | International Paper, Cincinnati Division (USW) | Mason, OH | 10/29/08 | 10/23/08
64303 | ITG Automotive Safety (Wkrs) | South Hill, VA | 10/29/08 | 10/22/08
64304 | American Die Corporation (Comp) | Chesterfield, MI | 10/30/08 | 10/10/08
64305 | Summit Polymers, Inc. (Comp) | Shelbyville, TN | 10/30/08 | 10/29/08
64306 | Ainsworth Engineered (State) | Bemidji, MN | 10/30/08 | 10/29/08
64307 | Wallace Technologies/King Controls (State) | Bloomington, MN | 10/30/08 | 10/29/08
64308 | DLJ Production (Wkrs) | Brooklyn, NY | 10/30/08 | 10/27/08
64309 | General Motors (UAW) | Janesville, WI | 10/30/08 | 10/29/08
64310 | Dana Corp (State) | Longview, TX | 10/30/08 | 10/29/08
64311 | Chrysler Corp (UAW) | Toledo, OH | 10/30/08 | 10/29/08
64312 | Acme-McCrary Corp (Comp) | Asheboro, NC | 10/30/08 | 10/29/08
64313 | GE Consumer and Industrial Luclox Plant (Comp) | Willoughby, OH | 10/31/08 | 10/29/08
64314 | Town of Forest City (Comp) | Forest City, NC | 10/31/08 | 10/30/08
64315 | Volunteer Circuits, Inc. (State) | Bells, TN | 10/31/08 | 10/30/08
64316 | Modern Plastics Corporation (Wkrs) | Coloma, MI | 10/31/08 | 10/24/08
64317 | Callaway Golf Company (Comp) | Carlsbad, CA | 10/31/08 | 10/30/08
64318 | Clarion Technologies (State) | Greenville, MI | 10/31/08 | 10/30/08
64319 | Allied Hosiery Mill (Comp) | Englewood, TN | 10/31/08 | 10/28/08
64320 | Wearbest Sil-Tex Mills, Ltd. (Comp) | Garfield, NJ | 10/31/08 | 10/30/08
64321 | Olympic Panel Products LLC (IAMAW) | Shelton, WA | 10/31/08 | 10/22/08
64322 | Woodbridge Corporation (Comp) | St Peters, MO | 10/31/08 | 10/30/08
64323 | Hoover Universal (Comp) | Jefferson City, MO | 10/31/08 | 10/29/08
64324 | Mack Avenue Engine #2 Plant (UAW) | Detroit, MI | 10/31/08 | 10/30/08

[FR Doc. E8-27928 Filed 11-24-08; 8:45 am]

BILLING CODE 4510-FN-P